DEPARTMENT OF THE TREASURY

Customs Service

[T.D. 01-62]

Cancellation of Customs Broker License

AGENCY: U.S. Customs Service, Department of the Treasury.

ACTION: Customs broker license cancellation.

SUMMARY: Pursuant to section 641 of the Tariff Act of 1930, as amended, (19 U.S.C. 1641) and the Customs Regulations (19 CFR 111.51), the following Customs broker license is canceled without prejudice.

Name | License # | Port name
Danzas Corporation | 2005 | New York.

Dated: August 22, 2001.
Bonni G. Tischler,
Assistant Commissioner, Office of Field Operations.

[FR Doc. 01-22564 Filed 9-7-01; 8:45 am]

BILLING CODE 4820-02-P